DEPARTMENT OF THE INTERIOR

U.S. Geological Survey

Patent Trademark & Copyright Act

AGENCY: U.S. Geological Survey, Interior.

ACTION: Notice of prospective intent to award partially exclusive licenses.

SUMMARY: The United States Geological Survey (USGS) is contemplating the award of partially exclusive licenses to: Columbia Analytic Services, Inc. of Kelso, WA and EON Products Inc. of Snellville, GA on U.S. Patent No. 5 804 743, a Downhole Passive Water Sampler and Method of Sampling.

Inquiries: If any other parties are interested in similar activities, or have comments relating to the award please contact Julia M. Giller, 12201 Sunrise Valley Drive, MS 500, Reston, VA 21092, phone: (703) 648-4403.

SUPPLEMENTARY INFORMATION: This notice is submitted to meet the requirements of 35 U.S.C. 208.

Dated: July 30, 2002.
Robert M. Hirsch,
Associate Director for Water.

[FR Doc. 02-20724 Filed 8-14-02; 8:45 am]

BILLING CODE 4310-Y7-M